DEPARTMENT OF COMMERCE

International Trade Administration

[C-570-921]

Lightweight Thermal Paper From the People's Republic of China: Final Results of the Expedited Third Sunset Review of the Countervailing Duty Order

AGENCY: Enforcement and Compliance, International Trade Administration, Department of Commerce.

SUMMARY: The U.S. Department of Commerce (Commerce) finds that revocation of the countervailing duty (CVD) order on lightweight thermal paper from the People's Republic of China (China) would be likely to lead to continuation or recurrence of countervailable subsidies at the levels indicated in the “Final Results of Sunset Review” section of this notice.

DATES: Applicable November 18, 2025.

FOR FURTHER INFORMATION CONTACT: Matthew Eiss, Trade Agreements Policy and Negotiations, Enforcement and Compliance, International Trade Administration, U.S. Department of Commerce, 1401 Constitution Avenue NW, Washington, DC 20230; telephone: (202) 482-5675.

SUPPLEMENTARY INFORMATION:

Background

On November 24, 2008, Commerce published the order on lightweight thermal paper from China.¹ On June 2, 2025, Commerce published the notice of initiation of the third sunset review of the Order, pursuant to section 751(c) of the Act and 19 CFR 351.218(c).²

¹ See Lightweight Thermal Paper from the People's Republic of China: Notice of Amended Final Affirmative Countervailing Duty Determination and Notice of Countervailing Duty Order, 73 FR 70958 (November 24, 2008) (Order).

² See Initiation of Five-Year (Sunset) Reviews, 90 FR 23310 (June 2, 2025).

On June 16, 2025, Commerce received a notice of intent to participate in this review from Domtar Corporation (domestic interested party), within the deadline specified in 19 CFR 351.218(d)(1)(i).³ The domestic interested party claims that it has interested party status within the meaning of section 771(9)(C) of the Act as a manufacturer of a domestic like product in the United States.⁴

³ See Domtar's Letter, “Five-Year (“Sunset”) Review Of Antidumping & Countervailing Duty Orders On Lightweight Thermal Paper From The People's Republic Of China: Notice Of Intent To Participate in Sunset Reviews,” dated June 16, 2025.

⁴ Id. at 2.

On July 2, 2025, Commerce received an adequate substantive response from the domestic interested party, within the 30-day deadline specified in 19 CFR 351.218(d)(3)(i).⁵ Commerce did not receive a substantive response from either the Government of China or a respondent interested party to this proceeding. On July 21, 2025, Commerce notified the U.S. International Trade Commission (ITC) that it did not receive an adequate substantive response from respondent interested parties.⁶ As a result, Commerce conducted an expedited (120-day) sunset review of the Order, pursuant to section 751(c)(3)(B) of the Act and 19 CFR 351.218(e)(1)(ii)(B)(2) and (C)(2).

⁵ See Domtar's Letter, “Five-Year (“Sunset”) Review Of Countervailing Duty Order On Lightweight Thermal Paper From The People's Republic Of China: Substantive Response,” dated July 2, 2025.

⁶ See Commerce's Letter, “Sunset Reviews Initiated June 2, 2025,” dated July 21, 2025.

Scope of the Order

The product covered by this Order is lightweight thermal paper from China. For the full description of the scope of the Order, see the Issues and Decisions Memorandum.⁷

⁷ See Memorandum, “Issues and Decision Memorandum for the Final Results of the Expedited Sunset Review of the Countervailing Duty Order on Lightweight Thermal Paper from the People's Republic of China,” dated concurrently with, and hereby adopted by, this notice.

Analysis of Comments Received

A complete discussion of all issues raised in this sunset review, including the likelihood of continuation or recurrence of subsidization and the countervailable subsidy rates likely to prevail if the Order were to be revoked, is contained in the accompanying Issues and Decision Memorandum.⁸ A list of the topics discussed in the Issues and Decision Memorandum is attached as an appendix to this notice. The Issues and Decision Memorandum is a public document and is on file electronically via Enforcement and Compliance's Antidumping and Countervailing Duty Centralized Electronic Service System (ACCESS), which is available to registered users at https://access.trade.gov. In addition, complete versions of the Issues and Decision Memorandum can be accessed directly at https://access.trade.gov/public/FRNoticesListLayout.aspx.

⁸ Id.

Final Results of Sunset Review

Pursuant to sections 751(c) and 752(b) of the Act, Commerce determines that revocation of the Order would be likely to lead to continuation or recurrence of countervailable subsidies at the following net countervailable subsidy rates:

Producers/exporters | Subsidy rate (percent ad valorem)
Guangdong Guanhao High-Tech Co., Ltd | 13.63
Shenzhen Yuanming Industrial Development Co., Ltd | 138.53
MDCN Technology Co., Ltd | 124.93
Xiamen Anne Paper Co., Ltd | 124.93
All Others | 13.63

Notification Regarding Administrative Protective Orders

This notice also serves as the only reminder to parties subject to administrative protective order (APO) of their responsibility concerning the return or destruction of proprietary information disclosed under APO in accordance with 19 CFR 351.305. Timely notification of the return or destruction of APO materials, or conversion to judicial protective, orders is hereby requested. Failure to comply with the regulations and terms of an APO is a violation which is subject to sanction.

Notification to Interested Parties

We are issuing and publishing these final results in accordance with sections 751(c), 752(b), and 777(i)(1) of the Act, and 19 CFR 351.221(c)(5)(ii).

Dated: September 30, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of a Countervailable Subsidy

2. Net Countervailable Subsidy Rates Likely to Prevail

3. Nature of the Subsidies

VII. Final Results of Sunset Review

VIII. Recommendation

[FR Doc. 2025-20155 Filed 11-17-25; 8:45 am]

BILLING CODE 3510-DS-P